ENVIRONMENTAL PROTECTION AGENCY

40 CFR Parts 257 and 258

[FRL-7122-2]

RIN 2050-AE86

Criteria for Classification of Solid Waste Disposal Facilities and Practices and Criteria for Municipal Solid Waste Landfills: Disposal of Residential Lead-Based Paint Waste

AGENCY: Environmental Protection Agency (EPA).

ACTION: Withdrawal of direct final rule.

SUMMARY: Because EPA received an adverse comment, we are withdrawing the direct final rule for Criteria for Classification of Solid Waste Disposal Facilities and Practices and Criteria for Municipal Solid Waste Landfills: Disposal of Residential Lead-Based Paint Waste. We published the direct final rule on October 23, 2001 (66 FR 53535) to expressly allow residential lead-based paint waste to be disposed of in construction and demolition landfills in addition to municipal solid waste landfill units. We stated in the direct final rule that if we received any adverse comments by November 23, 2001, we would publish a timely notice of withdrawal in the Federal Register. We subsequently received an adverse comment on the direct final rule. We will address those comments in a subsequent final action based on the parallel proposal also published on October 23, 2001 (66 FR 53566).

DATES: As of December 28, 2001, EPA withdraws the direct final rule published at 66 FR 53535 on October 23, 2001.

FOR FURTHER INFORMATION CONTACT: For general information, call the RCRA Call Center at 1-800-424-9346 or TDD 1-800-553-7672 (hearing impaired). Callers within the Washington Metropolitan Area must dial 703-412-9810 or TDD 703-412-3323 (hearing impaired). The RCRA Call Center is open Monday-Friday, 9 am to 4 pm, Eastern Standard Time. For more information on specific aspects of this withdrawal, contact Paul Cassidy, Office of Solid Waste (mail code 5306W), U.S. Environmental Protection Agency, 1200 Pennsylvania Avenue, NW., Washington, DC 20460; (703) 308-7281, cassidy.paul@epa.gov.

SUPPLEMENTARY INFORMATION: More information about this action can be found at http://www.epa.gov/epaoswer/non-hw/muncpl/landfill/pb-paint.htm. On October 23, 2001, EPA published in the Federal Register at 66 FR 53535 a direct final rule for Criteria for Classification of Solid Waste Disposal Facilities and Practices and Criteria for Municipal Solid Waste Landfills: Disposal of Residential Lead-Based Paint Waste. This direct final rule was to expressly allow residential lead-based paint waste to be disposed of in construction and demolition landfills in addition to municipal solid waste landfill units. On the same date, EPA published a separate document at 66 FR 53566 to serve as the proposal to Criteria for Municipal Solid Waste Landfills: Disposal of Residential Lead-Based Paint Waste if adverse comments were filed. The rule was scheduled to become effective on January 22, 2002 unless EPA received adverse comments by November 23, 2001. We subsequently received an adverse comment on the direct final rule. Consequently, we are withdrawing the direct final rule and it will not become effective on January 22, 2002.

Dated: December 18, 2001.
Christine Todd Whitman,
Administrator.

Accordingly, the amendments and additions to Part 257 and Part 258 are withdrawn as of December 28, 2001.

[FR Doc. 01-31798 Filed 12-27-01; 8:45 am]

BILLING CODE 6560-50-P